INTERNATIONAL TRADE COMMISSION

[Investigation No. 731-TA-841 (Final)]

Certain Non-Frozen Concentrated Apple Juice From China

Determination

On the basis of the record ¹ developed in the subject investigation, the United States International Trade Commission determines,² pursuant to section 735(b) of the Tariff Act of 1930 (19 U.S.C. 1673d(b)) (the Act), that an industry in the United States is materially injured by reason of imports from China of certain non-frozen concentrated apple juice,³ provided for in subheadings 2009.70.00 and 2106.90.52 of the Harmonized Tariff Schedule of the United States, that have been found by the Department of Commerce to be sold in the United States at less than fair value (LTFV).

¹ The record is defined in sec. 207.2(f) of the Commission's Rules of Practice and Procedure (19 CFR 207.2(f)).

² Chairman Lynn M. Bragg not participating.

³ “Certain non-frozen concentrated apple juice” consists of all non-frozen concentrated apple juice with a Brix scale of 40 or greater, whether or not containing added sugar or other sweetening matter, and whether or not fortified with vitamins or minerals. Excluded from the scope of the investigation are frozen concentrated apple juice; non-frozen concentrated apple juice that has been fermented; and non-frozen concentrated apple juice to which spirits have been added.

Background

The Commission instituted this investigation effective June 7, 1999, following receipt of a petition filed with the Commission and the Department of Commerce by Coloma Frozen Foods, Inc.; Coloma, MI; Green Valley Apples of California, Los Angeles, CA; Knouse Foods Cooperative, Inc., Peach Glen, PA; Mason County Fruit Packers Cooperative, Ludington, MI; and Tree Top, Inc., Selah, WA. The final phase of the investigation was scheduled by the Commission following notification of a preliminary determination by the Department of Commerce that imports of certain non-frozen concentrated apple juice from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of January 20, 2000 (65 FR 3247). The hearing was held in Washington, DC, on April 10, 2000, and all persons who requested the opportunity were permitted to appear in person or by counsel.

The Commission transmitted its determination in this investigation to the Secretary of Commerce on May 30, 2000. The views of the Commission are contained in USITC Publication 3303 (May 2000), entitled Certain Non-Frozen Concentrated Apple Juice from China: Investigation No. 731-TA-841 (Final).

Issued: June 1, 2000.
By order of the Commission.
Donna R. Koehnke,
Secretary.

[FR Doc. 00-14318 Filed 6-6-00; 8:45 am]

BILLING CODE 7020-02-P